DEPARTMENT OF THE TREASURY

Agency Information Collection Activities; Submission for OMB Review; Comment Request; CDFI Program and NMTC Program Annual Report Including CIIS

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before October 23, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Community Development Financial Institutions (CDFI)

Title: CDFI Program and NMTC Program Annual Report including CIIS.

OMB Control Number: 1559-0027.

Type of Review: Revision of a currently approved collection.

Abstract: The annual report provides qualitative and quantitative information on the Awardee's compliance with its performance goals, its financial health and the timeline in which the CDFI Fund's financial and technical assistance was used. The data collection will be used to collect compliance and performance data from certified CDFIs and CDEs and from NACA awardees.

Forms: CDFI 0007.

Affected Public: Businesses or other for-profits.

Estimated Total Annual Burden Hours: 51,645.

Authority: 44 U.S.C. 3501 et seq.

Dated: September 15, 2017.
Jennifer P. Leonard,
Treasury PRA Clearance Officer.

[FR Doc. 2017-20092 Filed 9-20-17; 8:45 am]

BILLING CODE 4810-70-P